DEPARTMENT OF THE INTERIOR

Bureau of Reclamation

Notice of Public Scoping Meetings for the Pojoaque Basin Regional Water System Environmental Impact Statement, New Mexico

AGENCY: Bureau of Reclamation, Interior.

ACTION: Notice of public scoping meetings.

SUMMARY: Pursuant to the National Environmental Policy Act of 1969, as amended, the Bureau of Reclamation is preparing an environmental impact statement for the Pojoaque Basin Regional Water System. As part of that process, Reclamation will host five public scoping meetings to provide information on the project and to solicit input on the scope of the document, alternatives, concerns, and issues to be addressed in the environmental impact statement.

DATES: Public scoping meetings will be held from 6:00 p.m. to 8:00 p.m. on the following dates:

• Monday, April 1, 2013, in Tesuque, New Mexico.

• Tuesday, April 2, 2013, in Pojoaque, New Mexico.

• Wednesday, April 3, 2013, in Santa Fe, New Mexico.

• Thursday, April 4, 2013, in Española, New Mexico.

• Tuesday, April 9, 2013, in Taos, New Mexico.

The scoping period will be open from March 13, 2013 to May 3, 2013.

ADDRESSES: Public scoping meetings will be held at the following locations:

• Tesuque—Tesuque Valley Elementary School Cafeteria, 1555 Bishop's Lodge Road, Tesuque, New Mexico, 87574.

• Pojoaque—Pojoaque Valley School District Campus, West Wing Conference Room, 1574 State Road 502 West, Santa Fe, New Mexico 87506.

• Santa Fe—Santa Fe Community College, Jemez Rooms 1&2, 6401 Richards Avenue, Santa Fe, New Mexico 87508.

• Española—Northern New Mexico College, Cafeteria, 921 N. Paseo de Oñate, Española, New Mexico 87532.

• Taos—Taos Convention Center, Rio Grande Hall, Room A, 120 Civic Plaza, Taos, New Mexico 87571.

FOR FURTHER INFORMATION CONTACT: Ms. Molly Thrash, Bureau of Reclamation, Albuquerque Area Office, 555 Broadway NE., Suite 100, Albuquerque, New Mexico, 87102; telephone (505) 462-3702; facsimile (505) 462-3780; email sthrash@usbr.gov. Persons who use a telecommunications device for the deaf may call the Federal Information Relay Service (FIRS) at 1-800-877-8339 to contact the above individual during normal business hours. The FIRS is available 24 hours a day, 7 days a week to leave a message or question with the above individual. You will receive a reply during normal business hours.

SUPPLEMENTARY INFORMATION: The Bureau of Reclamation is the lead Federal agency for preparation of the Pojoaque Basin Regional Water System Environmental Impact Statement (EIS). As such, Reclamation published a Notice of Intent to Prepare an EIS on February 24, 2012 (77 FR 11155). The U.S. Army Corps of Engineers, Bureau of Indian Affairs, U.S. Fish and Wildlife Service, Indian Health Service, New Mexico Department of Transportation, New Mexico Office of the State Engineer, County of Santa Fe, City of Santa Fe, and the Pueblos of Nambé, Pojoaque, San Ildefonso, and Tesuque have been invited to participate as cooperating agencies. Other entities may be considered as necessary during the EIS process.

Reclamation is proposing to plan, design, and construct the Pojoaque Basin Regional Water System in accordance with the Aamodt Litigation Settlement Act, which is Title VI of the Claims Resolution Act of 2010 (Pub. L. 111-291, Title VI; 124 Stat. 3065). The proposed project would divert, treat, and distribute potable water to the Pueblo and non-Pueblo residents of the Pojoaque Basin. The Regional Water System would consist of surface water diversion and water treatment facilities within the boundaries of San Ildefonso Pueblo on the Rio Grande and storage tanks, transmission and distribution pipelines, and aquifer storage and recovery well fields that would supply up to 4,000 acre-feet of water annually to customers within the Pojoaque Basin.

Additional Information on the project is available at the project Web site at PojoaqueBasinEIS.com.

Public Scoping

Scoping is an early, ongoing, and open public process for determining the relevant issues to be addressed in the EIS and for identifying any significant issues and suggested alternatives related to the proposed Federal action.

Public comments on the scope and content of the EIS may be provided at the public meetings, submitted online through the project Web site, sent via email or facsimile, or mailed to the address shown below. To be most effectively considered, comments should be submitted by May 3, 2013.

Public comments and/or requests to be added to the project mailing list will be accepted at all of the public scoping meetings or by any of the methods shown below:

• Email: PojoaqueBasinEIS@usbr.gov.

• Facsimile: (505) 462-3780.

• Web site: PojoaqueBasinEIS.com.

• Address: Bureau of Reclamation, Albuquerque Area Office, Suite 100 (ALB-842), 555 Broadway NE., Suite 100, Albuquerque, New Mexico, 87102.

In addition to the public scoping meetings described above, Reclamation may host additional scoping meetings with Pueblo members at or near each of the four Pueblos. Government-to-government consultation will continue with the Pueblo governments and coordination will continue with other Federal and State agencies.

Special Assistance for Public Meetings

If special assistance is required to participate in a particular scoping meeting, please contact Ms. Molly Thrash at (505) 462-3702, or via email at sthrash@usbr.gov. A telephone device for the hearing impaired is available at 1-800-877-8339. Please provide notification as far in advance as possible to enable Reclamation to secure the needed services. If a request cannot be honored, the requestor will be notified.

Public Disclosure

Before including your address, phone number, email address, or other personal identifying information in any communication, you should be aware that your entire comments—including your personal identifying information—may be made publicly available at any time. While you can ask us in your communication to withhold your personal identifying information from public review, we cannot guarantee that we will be able to do so.

Dated: January 16, 2013.
Larry Walkoviak,
Regional Director—Upper Colorado Region, Bureau of Reclamation.

[FR Doc. 2013-05604 Filed 3-12-13; 8:45 am]

BILLING CODE 4310-MN-P